NUCLEAR REGULATORY COMMISSION

[Docket Nos. 50-456 and 50-457; NRC-2013-0169]

Exelon Generation Company, LLC, Braidwood Station, Units 1 and 2

AGENCY: Nuclear Regulatory Commission.

ACTION: License renewal and record of decision; issuance.

SUMMARY: The U.S. Nuclear Regulatory Commission (NRC) has issued renewed facility operating license Nos. NPF-72 and NPF-77 to Exelon Generation Company, LLC (Exelon or the licensee), the operator of Braidwood Station, Units 1 and 2 (Braidwood), respectively. Renewed facility operating license Nos. NPF-72 and NPF-77 authorize the operation of Braidwood Units 1 and 2 at reactor core power levels not in excess of 3645 megawatts thermal each, in accordance with the provisions of the renewed licenses and technical specifications. In addition, the NRC has prepared a record of decision (ROD) that supports the NRC's decision to renew facility operating license Nos. NPF-72 and NPF-77.

DATES: The license renewal of facility operating license Nos. NPF-72 and NPF-77 were effective on January 27, 2016.

ADDRESSES: Please refer to Docket ID NRC-2013-0169 when contacting the NRC about the availability of information regarding this document. You may obtain publicly-available information related to this document using any of the following methods:

• Federal Rulemaking Web site: Go to http://www.regulations.gov and search for Docket ID NRC-2013-0169. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: Lois James, Office of Nuclear Reactor Regulation, U.S. Nuclear Regulatory Commission, Washington, DC 20555-0001, telephone: 301-415-3306; email: Lois.James@nrc.gov.

SUPPLEMENTARY INFORMATION: Notice is hereby given that the NRC has issued renewed facility operating license Nos. NPF-72 and NPF-77 to Exelon Generation Company, LLC, the operator of Braidwood Station. Renewed facility operating license Nos. NPF-72 and NPF-77 authorizes the operation of Braidwood Units 1 and 2 at reactor core power levels not in excess of 3645 megawatts thermal each, in accordance with the provisions of the Braidwood, Units 1 and 2 renewed licenses and technical specifications. The NRC's ROD that supports the decision to renew facility operating license Nos. NPF-72 and NPF-77 is available in ADAMS under Accession No. ML15322A317.

As discussed in the ROD and the final supplemental environmental impact statement (FSEIS) for Braidwood Station, Supplement 55 to NUREG-1437, “Generic Environmental Impact Statement for License Renewal of Nuclear Plants Regarding Braidwood Station, Units 1 and 2,” issued in November 2015 (ADAMS Accession No. ML15314A814), the NRC considered a range of reasonable alternatives that included new nuclear generation, coal-integrated gasification combined cycle, natural gas combined-cycle (NGCC), combination (NGCC, wind, and solar generation), replacement power, and the no-action alternative. The ROD and FSEIS document the NRC's determination that the adverse environmental impacts of license renewal for Braidwood are not so great that preserving the option of license renewal for energy planning decision makers would be unreasonable.

Braidwood Station, Units 1 and 2, has two pressurized water reactors and is located in Will County, Illinois. The application for the renewed licenses, “License Renewal Application, Byron and Braidwood Stations, Units 1 and 2,” dated May 29, 2013 (ADAMS Accession Nos. ML13155A420 and ML13155A421), as supplemented by letters dated through April 13, 2015, with respect to Braidwood Station, complied with the standards and requirements of the Atomic Energy Act of 1954, as amended (AEA) and the NRC's regulations in Chapter I of title 10 of the Code of Federal Regulations. The NRC has made appropriate findings, which are set forth in each of the licenses, as required by the AEA and its regulations. A public notice of the proposed issuance of the renewed licenses and an opportunity for a hearing was published in the Federal Register on July 24, 2013 (78 FR 44603).

For further details with respect to this action, see: (1) Exelon Generation Company, LLC's (Exelon) license renewal application for Byron Station, Units 1 and 2, and Braidwood Station, Units 1 and 2, dated May 29, 2013, as supplemented by letters dated through April 13, 2015; (2) the NRC's safety evaluation report dated July 2015 (ADAMS Accession No. ML15182A051); (3) the NRC's final environmental impact statement (NUREG-1437, Supplement 55), for Braidwood, Units 1 and 2, published in November 2015; and (4) the NRC's ROD.

Dated at Rockville, Maryland, this 27 day of January 2016.
For the Nuclear Regulatory Commission,
Christopher G. Miller,
Director, Division of License Renewal, Office of Nuclear Reactor Regulation.

[FR Doc. 2016-02070 Filed 2-2-16; 8:45 am]

BILLING CODE 7590-01-P